FEDERAL ELECTION COMMISSION

Sunshine Act Meeting Notices

Previously Scheduled Date and Time: Tuesday, July 10, 2007, meeting closed to the public. This meeting has been rescheduled to Thursday, July 12, 2007, to begin at the conclusion of the open meeting.

Date and Time: Thursday, July 12, 2007, at 10 a.m.

Place: 999 E Street, NW., Washington, DC (Ninth Floor).

Status: This meeting will be open to the public.

The Following Item Has Been Added to the Agenda: Report of the Audit Division on DeMint for Senate Committee, Inc.

Person to Contact for Information: Mr. Robert Biersack, Press Officer, Telephone: (202) 694-1220.

Mary W. Dove,
Secretary of the Commission.

[FR Doc. 07-3404 Filed 7-9-07; 3:07 pm]

BILLING CODE 6715-01-M